DEPARTMENT OF JUSTICE

Antitrust Division

Notice Pursuant to the National Cooperative Research and Production Act of 1993—The National Advanced Mobility Consortium, Inc. (Formerly Known as The Robotics Technology Consortium)

Notice is hereby given that, on March 18, 2021, pursuant to Section 6(a) of the National Cooperative Research and Production Act of 1993, 15 U.S.C. 4301 et seq. (“the Act”), The National Advanced Mobility Consortium, Inc. (“NAMC”) has filed written notifications simultaneously with the Attorney General and the Federal Trade Commission disclosing changes in its membership. On February 3, 2015, the RTC officially changed its name to NAMC. The notifications were filed for the purpose of extending the Act's provisions limiting the recovery of antitrust plaintiffs to actual damages under specified circumstances. Specifically, 3-Dimensional Services Group, Rochester Hills, MI; A-Tech Corporation, Albuquerque, NM; Acellent Technologies, Inc., Sunnyvale, CA; Acrow Corporation of America, Inc., Parsippany, NJ; ADI Technologies, Inc., Chantilly, VA; ADS, Inc., Virginia Beach, VA; Advanced Armor Research Group, LLC, Fredericksburg, VA; Adsys Controls, Inc., Irvine, CA; Aegis Systems, Inc., New York, NY; Aeronix, Melbourne, FL; AeroVironment, Inc., Huntsville, AL; Agile Decision Sciences, LLC, Huntsville, AL; AimLock, Littleton, CO; AMBOT, Reno, NV; Amerex Corporation, Trussville, AL; American Defense International, Inc., Washington, DC; American Engineering Group, LLC, Akron, OH; American Lightweight Material Manufacturing Innovation Institute, Detroit, MI; American Power Systems, Inc., Davenport, IA; American Rheinmetall Systems, LLC, Biddeford, ME; American Rheinmetall Vehicles, LLC, Sterling Heights, MI; American Systems Corporation, Chantilly, VA; American Warrior Enterprises, Inc., Sioux City, IA; Ampex Data Systems Corporation, Hayward, CA; Andromeda Systems Incorporated, Orange Park, FL; Anduril Industries, Inc., Costa Mesa, CA; API Heat Transfer, Inc., Buffalo, NY; APT-Research, Inc., Huntsville, AL; Aqua-Chem, Inc., Knoxville, TN; Archarithms, Inc., Huntsville, AL; Ares Technology, LLC, Shelby Charter Township, MI; Arete Associates, Arlington, VA; ArmorWorks Enterprises, Inc., Chandler, AZ; ASRC Federal Mission Solutions, Moorestown, NJ; Atlas Business Consulting, Inc., Southlake, TX; Attollo Engineering, Camarillo, CA; Auburn University, Auburn, AL; BAE Systems, Santa Clara, CA; Baker Engineering, LLC, Nunica, MI; Barden Brook Capital LLC, Bloomfield Hills, MI; Bascom Hunter Technologies, Baton Rouge, LA; Battelle, Aberdeen, MD; BEARS LLC, Royal Oak, MI; Bell Helicopter Textron, Inc., Fort Worth, TX; BlackHorse Solutions, Inc., Herndon, VA; Booz Allen Hamilton, Inc., Troy, MI; Boston Engineering Corporation, Waltham, MA; Brenner Tank Services, LLC, Fond du Lac, WI; Brighton Cromwell, LLC, Randolph, NJ; Buffalo Armory, LLC, Buffalo, NY; C&R Racing, Inc., Indianapolis, IN; CACI, Inc., Chantilly, VA; Calnetix Technologies, Cerritos, CA; CAMX Power LLC, Lexington, MA; Carnegie Mellon University, Pittsburgh, PA; Carnegie Robotics LLC, Pittsburgh, PA; Carolina Growler, Inc., Star, NC; CerTech LLC, Saginaw, MI; Charles River Analytics, Inc., Cambridge, MA; Chase Defense Partners, Hampton, VA; Chemeon Surface Technology, LLC, Minden, NV; Cherokee Nation Aerospace & Defense, Tulsa, OK; Choctaw Defense Manufacturing, LLC, McAlester, OK; Cintel, Inc., Huntsville, AL; Citadel Defense Company, National City, CA; CITE Armored, Holly Springs, MS; CMI Defence America, Inc., Sterling Heights, MI; Coda Octopus Colmek, Inc., Murray, UT; Colorado Engineering, Inc., Colorado Springs, CO; Concurrent Technologies Corporation, Johnstown, PA; Consolidated Resource Imaging LLC, Grand Rapids, MI; ContiTech USA, Inc., St. Marys, OH; Continental Mapping Consultants, Inc., Sun Prairie, WI; CoorsTek Incorporated, Golden, CO; CP Technologies LLC, San Diego, CA; Crane Electronics, Inc., Walton Beach, FL; CUBRC, Inc. Buffalo, NY; Cybernet Systems Corporation, Ann Arbor, MI; Czero, Inc., Fort Collins, CO; D-2 Incorporated, Bourne, MA; Dataspeed, Inc., Troy, MI; Davidson Technologies, Inc., Huntsville, AL; Davis Defense Group, Inc., Stafford, VA; Daylight Defense, LLC, San Diego, CA; DB Santasalo-USA, Greer, SC; Deep Analytics, LLC, Montpellier, VT; Defense Research Associates, Inc., Beavercreek, OH; Dell Technologies, Apex, NC; Design Interactive, Inc., Orlando, FL; DHPC Technologies, Inc., Woodbridge, NJ; Digital Design Corporation, Arlington Heights, IL; DLI, LLC, Shady Grove, PA; DOLL America Inc., Logan Township, NJ; DornerWorks, Ltd, Grand Rapids, MI; Dragonfly Pictures, Inc., Essington, PA; Drive System Design, Inc., Farmington Hills, MI; DroneShield LLC, Warrenton, VA; DuPont Specialty Products USA, LLC, Midlothian, VA; Dynatrac Products Co., Inc., Huntington Beach, CA; Easy Aerial Inc., Brooklyn, NY; E.D. Etnyre & Co., Oregon, IL; Edge Case Research, Inc., Pittsburgh, PA; EndoSec LLC, Lenexa, KS; Elroy Air, Inc., San Francisco, CA; Engineered Materials Technology, Inc., Sterling Heights, MI; EOS Defense Systems USA, Huntsville, AL; Epirus, Inc., Hawthorne, CA; Equinox Innovative Systems, Columbia, MD; ESI Motion, Simi Valley, CA; Espey Manufacturing & Electronics Corporation, Saratoga Springs, NY; Essex Industries, Inc., St. Louis, MO; EWA Government Systems, Inc., Herndon, VA; Exyn Technologies, Philadelphia, PA; FAAC Incorporated, Ann Arbor, MI; Fenix Group, Chantilly, VA; FLIR Systems, Inc., Arlington, VA; Flyer Defense, LLC, Los Angeles, CA; Florida Institute for Human and Machine Cognition, Inc. (IHMC), Pensacola, FL; Fontaine Heavy Haul, Springville, AL; FPH USA, Warren, MI; Friedman Research Corporation, Austin, TX; Galvion Ltd, Essex Junction, VT; GE Global Research, Niskayuna, NY; Gen3 Defense and Aerospace LLC, Grand Rapids, MI; General Atomics, San Diego, CA; General Dynamics Mission Systems, Scottsdale, AZ; General Electric Aviation Systems, LLC, Grand Rapids, MI; General Kinetics, LLC, Bedford, NJ; General Motors Defense LLC, Washington, DC; Georgia Tech Applied Research Corporation, Smyrna, GA; GGS Information Services, Inc., York, PA; Ghost Robotics Corporation, Philadelphia, PA; GK Mechanical System, LLC, Brookfield, CT; Global Ordnance, Sarasota, FL; GLX Power Systems, Inc., Chagrin Falls, OH; Globe Tech LLC, Plymouth, MI; Grand Valley Mfg., Titusville, PA; Great Lakes Waterjet and Laser, Albion, MI; GRIMM, Arlington, VA; GuardKnox Cyber Technologies USA, Inc., Plymouth, MI; H2L Solutions, Huntsville, AL; Hamilton Sundstrand Corporation, Rockford, IL; Hanwha International LLC, Arlington, VA; HDT Expeditionary Systems, Inc., Solon, OH; Heil Trailer International, Athens, TN; Hensoldt, Inc., Vienna, VA; HII Unmanned Systems Inc., Virginia Beach, VA; IAI North America Inc., Herndon, VA; IEC Infrared Systems LLC, Middleburg Heights, OH, IERUS Technologies, Inc., Huntsville, AL; Independent Rough Terrain Center, Cibolo, TX, Institute for Defense Analyses, Alexandria, VA; Intellisense Systems, Inc., Torrance, CA; International Logistics Systems, Inc., Glen Rock, PA; Intuitive Research and Technology Corporation, Huntsville, AL; IR Technologies, Bethesda, MD; Island City Engineering, LLC, Merrill, WI; Isometrics, Inc., Reidsville, NC; Israeli Military Industries Services USA, Inc., Bethesda, MD; J.F. Taylor, Inc., Lexington Park, MD; Indiana Tool & Manufacturing Company (ITAMCO), Plymouth, IN; J.G.B. Enterprises, Inc., Liverpool, NY; iXblue Defense Systems, Inc., Natick, MA; Jankel Tactical Systems, Duncan, SC; Janus Communications, Irvine, CA; Jenoptik Advanced Systems, LLC, Jupiter, FL; Jovian Software Consulting LLC, Grand Rapids, MI; JWF Defense Systems, Johnstown, PA; Kaman Precision Products, Middletown, CT; KEF Robotics, Inc., Pittsburgh, PA; Kopis Mobile, Flowood, MS; Kratos Defense & Rocket Support Services, Inc., Huntsville, AL; Kymeta Government Solutions, Inc., Redmond, WA; L3 Combat Propulsion Systems, Muskegon, MI; L3 Harris, Melbourne, FL; L3 Technologies, Inc. Advanced Laser Systems Technology Division, Orlando, FL; L3 Technologies, ComCept Division, Rockwall, TX; L3 Technologies, Inc. (Communication Systems—East), Camden, NJ; L3 Technologies, Inc. (Communication Systems—West), Salt Lake City, UT; LINE-X LLC, Huntsville, AL; LiquidPiston, Inc., Bloomfield, CT; Lithos Energy, Inc., San Rafael, CA; Lockheed Martin, Bethesda, MD; LRAD Corporation, San Diego, CA; Lynx Software Technologies, San Jose, CA; Mack Defense, LLC, Allentown, PA; Macomb Community College, Warren, MI; Mainstream Engineering Corporation, Rockledge, FL; MAK Technologies, Orlando, FL; ManTech Advanced Systems International, Inc., Herndon, VA; Martin Technologies, New Hudson, MI; Mass XV, LLC, Yorktown, VA; Mawashi Science & Technology, Cape Coral, FL; Mayer Alloys Corporation, Ferndale, MI; Maynard Steel Casting Company, Milwaukee, WI; MCM Learning, Inc., Warren, MI; McNally Industries, LLC, Grantsburg, WI; McQ, Inc., Fredericksburg, VA; Meggitt Defense Systems, Irvine, CA; Mercury Systems, Inc., Andover, MA; Meritor, Inc., Troy, MI; Metalbuilt LLC, Chesterfield, MI; Metawave Corporation, Carlsbad, CA; Mettle-Ops, Sterling Heights, MI; Michigan Engineering Services, LLC, Ann Arbor, MI; Michigan State University, East Lansing, MI; Michigan Technological University, Houghton, MI; Microsoft Corporation, Redmond, WA; Mide Technology Corp, Medford, MA; Military Systems Group, Inc., Nashville, TN; Milpower Source, Inc., Belmont, NH; Mississippi State University, Mississippi State, MS; MIT Lincoln Laboratory, Lexington, MA; Morgan 6 LLC, Charleston, SC; MSI Defense Solutions, LLC, Mooresville, NC; MTU America, Inc., Novi, MI; Nahsai, LLC, Ann Arbor, MI; Nanohmics, Inc., Austin, TX; Navistar Defense, LLC, Lisle, IL; Navatek, LLC, Honolulu, HI; NewSoTech, Inc., Ashburn, VA; Neya Systems, LLC, Seven Fields, PA; North Atlantic Industries, Bohemia, NY; Northrop Grumman Remotec, Clinton, TN; Numurus, LLC, Seattle, WA; Nu-Trek, Inc., San Diego, CA; Oakland University, Rochester, MI; ODU-USA, Inc., Camarillo, CA; O'Neil & Associates, Inc., Miamisburg, OH; Onodi Tool & Engineering, Melvindale, MI; On-Point Defense Technologies, Fort Walton Beach, FL; OnTime Networks LLC, Dallas, TX; Optics 1, Inc., Bedford, NH; Orbital Traction, Ltd., Houston, TX; Oshkosh Corporation, Oshkosh, WI; PacStar, Portland, OR; Parker-Hannifin Corporation, Cleveland, OH; Parts Life, Inc., Moorestown, NJ; PD Systems, Sterling Heights, MI; Pendar Technologies, LLC, Cambridge, MA; Peregrine Technical Solutions, LLC, Yorktown, VA; Persistent Systems LLC, New York, NY; Perspecta Labs, Basking Ridge, NJ; Photodon, LLC, Traverse City, MI; Piasecki Aircraft Corporation, Essington, PA; Pi Innovo, LLC, Plymouth, MI; Planck Aerosystems, San Diego, CA; Point Blank Enterprises, Inc., Pompano Beach, FL; Polaris Alpha Advanced Systems, Inc., Picatinny, NJ; Polaris Sales, Inc., Medina, MN; Polaris Sensor Technologies, Inc., Huntsville, AL; Pratt & Miller Engineering, New Hudson, MI; Precision Boring Company, Clinton Township, MI; Precision Combustion, Inc., North Haven, CT; Production Products Manufacturing & Sales, Inc., St. Louis, MO; Productive Resources, LLC, Lemont, IL; Protective Technologies Group, Inc., Fallbrook, CA; Purdue University, West Lafayette, IN; Quantum Research International, Inc., Huntsville, AL; Quantum Ventura, Inc., Los Angeles, CA; RADA Technologies, LLC, Silver Spring, MD; Rafael Systems Global Sustainment, LLC, Bethesda, MD; RAVE Computer, Sterling Heights, MI; Raytheon Company, Waltham, MA; RE2, Inc., Pittsburgh, PA; Real-Time Analyzers Inc., Middletown, CT; Real-Time Innovations, Inc., Sunnyvale, CA; ReconRobotics, Inc., Edina, MN; Red Hat Professional Consulting, Inc., Raleigh, NC; Regents of the University of Michigan, Ann Arbor, MI; ReLogic Research, Inc., Huntsville, AL; Riptide Software, Oviedo, FL; Robo-Team NA, Inc., Rockville, MD; Robotic Research, LLC, Gaithersburg, MD; Rockwell Collins, Inc., Cedar Rapids, IA; Roxtec, Inc., Ada, MI; Sarcos LC, Salt Lake City, UT; SAVIT Corporation, Rockaway, NJ; Schutt Industries, Inc., Clintonville, WI; Scientific Systems Company, Inc., Woburn, MA; ScioTeq LLC, Duluth, GA; SCI Technology, Inc., Huntsville, AL; Seco USA Inc., Rockville, MD; Secord Solutions, LLC, Grose Ile, MI; Seiler Instrument, St. Louis, MO; Senseeker Engineering, Santa Barbara, CA; Sequoia Applied Solutions, Inc., Ann Arbor, MI; Shield AI, San Diego, CA; Shift5, Inc., Rosslyn, VA; SI2 Technologies, Inc., N. Billerica, MA; Sierra Nevada Corporation, Folsom, CA; Signature Research, Inc., Calumet, MI; Silvus Technologies, Inc., Los Angeles, CA; Skyward, Ltd., Dayton, OH; Soar Technology, Inc., Ann Arbor, MI; SOLUTE, Inc., San Diego, CA; Sonalysts, Inc., Waterford, CT; SOUCY USA, Chaplain, NY; Southwest Research Institute, San Antonio, TX; Spark Insights, LLC, Tampa, FL; Spark Thermionics, Inc., Emeryville, CA; Spear Power Systems, Inc., Grandview, MO; Spectra Technologies, LLC, East Camden, AR; Sphere Brake Defense, LLC, Erie, PA; Squarehead Technology, LLC, Herndon, VA; SRC, Inc., N. Syracuse, NY; SRI International, Arlington, VA; SSL Robotics LLC, Pasadena, CA; ST Engineering North America Government, Huntsville, AL; Steelhead Composites, Golden, CO; Stephens Pneumatics, Inc., Haslet, TX; Strategic Technology Consulting, LLC, Toms River, NJ; Stratom, Inc., Boulder, CO; Strata-G-Solutions, Inc., Huntsville, AL; Swift Engineering, Inc., San Clemente, CA; Synergistic, Inc., Sterling Heights, MI; Syntonics, LLC, Columbia, MD; Systecon North America, Juno Beach, FL; Systel, Inc., Sugar Land, TX; Systematic, Inc., Centreville, VA; System Strategy, Inc., Beverly Hills, MI; Systems & Technology Research, Woburn, MA; Target Arm, Inc., Ridgefield, CT; Targeted GeoSystems, LLC, Madison, AL; Taylor Defense Products, LLC, Louisville, MS; Technology Service Corporation, Arlington, VA; Teledyne Brown Engineering, Inc., Huntsville, AL; Telephonics Corporation, Farmingdale, NY; TeleSwivel, LLC, Durham, NC; Tercero Technologies, LLC, Pittsburgh, PA; Texas A&M Engineering Experiment Stations, College Station, TX; TexPower, Inc., Austin, TX; Textron, Inc., Slidell, LA; Thales Defense & Security, Inc., The Charles Stark Draper Laboratory, Inc., Cambridge, MA; The Entwistle Company, Hudson, MA; The Loch Harbour Group, Alexandria, VA; The MITRE Corporation, Bedford, MA; The Pennsylvania State University, Freeport, PA; The Spectrum Group, LLC, Alexandria, VA; The TireBall Company, Crestwood, KY; The University of Texas at Austin, Austin, TX; THK Rhythm Automotive Michigan Corporation, Portland, MI; TJ Clark International, LLC, Delaware, OH; Tomahawk Robotics, LLC, Melbourne, FL; TomCo Service Group, LLC, Detroit, MI; TORC Robotics, LLC, Blacksburg, VA; Torch Technologies, Inc., Huntsville, AL; Toyon Research Corporation, Goleta, CA; Tranformational Security, LLC, Columbia, MD; Triad Services Group, Inc.; Madison Heights, MI; Triz Engineering Services America, LLC, Highland Park, IL; Tuskegee University, Tuskegee, AL; UEC Electronics, Hanahan, SC; UHV Technologies, Inc., Lexington, KY; United Rotocraft, Englewood, CO; University of Dayton Research Institute, Dayton, OH; University of Texas at Arlington, Fort Worth, TX; Underground Pipeline, Inc., Eagle, WI; UVision-USA Corporation, Purcellville, VA; VES, LLC, Aberdeen Proving Ground, MD; Virginia Polytechnic Institute and State University, Blacksburg, VA; VITEC, Inc., Atlanta, GA; Volans-I, San Francisco, CA; Western International, Inc., Troy, MI; West-Mark, Ceres, CA; Wittenstein Aerospace & Simulation, Inc., Barlett, IL; W.L. Gore & Associates, Inc., Newark, DE; W.S. Darley & Co., Itasca, IL; xCraft Enterprises, Inc., Coeur d'Alene, ID; XPER Company, Butler, PA; YawPITCh, LLC, Holland, MI; have been added as parties to this venture.

Also, Acquisition Technologies Integrated, Inc., Williamsburg, PA; and ADA Technologies, Inc., Littleton, CO; Also, Acquisition Technologies Integrated, Inc., Williamsburg, PA; ADA Technologies, Inc., Littleton, CO; Alcoa Defense, Inc., New Kensington, PA; AlphaUSA, Livonia, MI; Altex Technologies Corporation, Sunnyvale, CA; Analysis & Design Application Co. Ltd., Melville, NY; AnthroTronix, Inc., Silver Spring, MD; Applied Technology Integration, Inc., Maumee, OH; ATA Engineering, Inc., San Diego, CA; Atlas Scientific, LLC, Brooklyn, NY; August Research Systems, Inc., Coraopolis, PA; Automation Alley Business Services, Sterling Heights, MI; Automotive Rentals, Inc., Mount Laurel, NJ; Badenoch, LLC, Southfield, MI; Battelle Memorial Institute, Dover, NJ; Baum Romstedt Technology Research Corp., Fairfax, VA; Bokam Engineering, Inc., Santa Ana, CA; CALIBRE Systems, Inc., Alexandria, VA; Coliant Corporation, Warren, MI; Combat Advanced Propulsion, LLC, Muskegon, MI; Control Point Corporation, Goleta, CA; CPS Technologies Corporation, Norton, MA; Creative Electronic Systems North America, Inc., Apex, NC; Critical Solutions International, Inc., Richland, MO; CrossTek Solutions LLC, Vicksburg, MS; DomerWorks, Ltd., Grand Rapids, MI; DRS Network & Imaging Systems, LLC, Dallas, TX; eTrans Systems, Fairfax, VA; EaglePicher Technologies, Joplin, MO; EDAG, Inc., Troy, MI; Efficient Drivetrains, Inc., Boulder, CO; Electro-Mechanical Associates, Inc., Ann Arbor, MI; Elevate Systems, San Antonio, TX; Excel Engineering, Diagonal, IA; Exponent, Inc., Menlo Park, CA; Fastpilot, Inc., Lake in the Hills, IL; FBS, Inc., State College, PA; FEV North America, Inc., Auburn Hills, MI; Flash Bainite, Washington, MI; Global Embedded Technologies, Inc., Farmington Hills, MI; Global Technology Associates, Ltd., Dearborn, MI; Green Hills Software, Inc., Santa Barbara, CA; Harbrick, Moscow, ID; Hendrick Motorsports Performance Group, Charlotte, NC; Hydroid, Inc., Pocasset, MA; IAV Automotive Engineering, Inc., Northville, MI; IGNIO LLC, Bloomfield Hills, MI; IMSolutions, LLC, Dumfries, VA; Induct Technology, Inc., Boca Raton, FL; Infinite Technologies, Inc., Folsom, CA; Inmatech, Inc., Ann Arbor, MI; InnoVital Systems, Inc., Beltsville, MD; Intertek Testing Services NA, LLC, Cortland, NY; J.G.W. International Ltd., Reston, VA; Kalmar Rough Terrain Center, Cibolo, TX; Lentix, Inc., Powell, TN; Lionbridge, Sterling Heights, MI; Logikos, Inc., Fort Wayne, IN; Lotus Engineering, Inc., Ann Arbor, MI; LSA Autonomy, Westminster, MD; Lucid Dimensions, Inc., Lafayette, CO; MAHLE Powertrain, LLC, Farmington Hills, MI; M Cubed Technologies, Inc., Newtown, CT; MDA US Systems, LLC, Pasadena, CA; Mechanical Solutions, Inc., Whippany, NY; Med-Eng, LLC, Bismarck, ND; Meldetech, Princeton, NJ; MetaMorph Inc., Nashville, TN; MillenWorks, Tustin, CA; Milwaukee School of Engineering, Milwaukee, WI; N&R Engineering and Management Services Corporation, Parma Heights, OH; Nexus Energy, Mobility and Cleantech, LLC, Raleigh, NC; NextEnergy Center, Detroit, MI; Nhungs Notions, Saugus, MA; Orbital ATK (formerly Alliant Techsystems ATK), Tucson, AZ; Primus Solutions, Inc., Colorado Springs, CO; Protection Engineering Consultants, LLC, San Antonio, TX; Quantum Fuel Systems Technologies Worldwide, Inc., Lake Forest, CA; Quantum Signal, LLC, Saline, MI; REL, Inc., Calumet, MI; Robertson Fuel Systems LLC, Tempe, AZ; S&K Global Solutions, LLC, Polson, MT; Select Engineering Services, Layton, UT; SIFT, LLC, Minneapolis, MN; SimaFore, LLC, Ann Arbor, MI; Sirab Technologies, Inc., Novato, CA; Sound Answers, Inc., Canton, MI; South Dakota School of Mines and Technology, Rapid City, SD; Spatial Integrated Systems, Inc., Kinston, NC; Specialty Tooling Systems, Inc., Grand Rapids, MI; SpringActive, Inc., Tempe, AZ; Stark Aerospace, Columbus, MS; Stryke Industries, LLC, Fernandina Beach, FL; Survivability Solutions, LLC, Sterling Heights, MI; Systems Process, Inc., Fort Wayne, IN; Team O'Neil Rally School LLC, Dalton, NH; Technical Professional Services, Inc., Wayland, MI; Technology and Supply Management, LLC, Fairfax, VA; The Energetics Technology Center, Inc. (ETC), St. Charles, MD; The Omnicon Group, Inc., Hauppauge, NY; Troika Solutions, LLC, Arlington, VA; Tyco Electronics Corporation, Berwyn, PA; UnderSea Sensor Systems, Inc. (formerly Ultra Electronics, AMI), Columbia City, IN; University of Wisconsin-Milwaukee, Milwaukee, WI; Venture Management Services, LLC, Troy, MI; Veyance Technologies, Inc., St. Marys, OH; have withdrawn as parties to this venture.

No other changes have been made in either the membership or planned activity of the group research project. Membership in this group research project remains open, and NAMC intends to file additional written notifications disclosing all changes in membership.

On October 15, 2009, NAMC filed its original notification pursuant to Section 6(a) of the Act. The Department of Justice published a notice in the Federal Register pursuant to Section 6(b) of the Act on November 30, 2009 (74 FR 62599).

The last notification was filed with the Department on June 11, 2016. A notice was published in the Federal Register pursuant to Section 6(b) of the Act on July 6, 2016 (81 FR 44045).

Suzanne Morris,
Chief, Premerger and Division Statistics, Antitrust Division.

[FR Doc. 2021-07241 Filed 4-7-21; 8:45 am]

BILLING CODE 4410-11-P